DEPARTMENT OF HOMELAND SECURITY

Federal Emergency Management Agency

44 CFR Part 67

[Docket ID FEMA-2010-0003: Internal Agency Docket No. FEMA-B-1145]

Proposed Flood Elevation Determinations; Correction

AGENCY: Federal Emergency Management Agency, DHS.

ACTION: Proposed rule; correction.

SUMMARY: On October 7, 2010, FEMA published in the Federal Register a proposed rule that contained an erroneous table. This notice provides corrections to that table, to be used in lieu of the information published at 75 FR 62061. The table provided here represents the flooding sources, location of referenced elevations, effective and modified elevations, and communities affected for Schuylkill County, Pennsylvania (All Jurisdictions). Specifically, it addresses the following flooding sources: Good Spring Creek, Little Schuylkill River, Mahanoy Creek, Schuylkill River, and West Branch Schuylkill River.

DATES: Comments are to be submitted on or before December 10, 2012.

ADDRESSES: You may submit comments, identified by Docket No. FEMA-B-1145, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 62061, in the October 7, 2010, issue of the Federal Register, FEMA published a table under the authority of 44 CFR 67.4. The table, entitled “Schuylkill County, Pennsylvania (All Jurisdictions)” addressed the following flooding sources: Little Schuylkill River, Mahanoy Creek, Schuylkill River, and West Branch Schuylkill River. That table contained inaccurate information as to the location of referenced elevation, effective and modified elevation in feet, or communities affected for the flooding sources Schuylkill River, Little Schuylkill River and West Branch Schuylkill River. In addition, it did not include the flooding source Good Spring Creek. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Schuylkill County, Pennsylvania (All Jurisdictions)
Good Spring Creek | Approximately 1,580 feet upstream of Locust Street | None | +810 | Township of Frailey.
| Approximately 977 feet upstream of Spruce Street | None | +815
Little Schuylkill River | Approximately 1,750 feet downstream of the State Route 895 bridge | None | +548 | Township of East Brunswick.
| At the upstream side of the railroad bridge | None | +560
Mahanoy Creek | Approximately 0.71 mile upstream of Rice Road | None | +781 | Township of Butler.
| Approximately 560 feet upstream of the railroad bridge | None | +811
Schuylkill River | Approximately 1,349 feet upstream of Mount Carbon Arch Road | None | +594 | Borough of Mechanicsville, Borough of Palo Alto.
| Approximately 100 feet upstream of Coal Street | None | +631
Schuylkill River | An area bounded approximately 31 feet south of State Route 209; approximately 618 feet south of State Route 209; and approximately 639 feet southwest of State Route 209 | None | +722 | City of Middleport.
Schuylkill River | An area bounded approximately 475 feet northwest of State Route 209; approximately 472 feet northeast of State Highway 209; and approximately 367 feet south of State Route 209 | None | +733 | City of Middleport.
Schuylkill River | Approximately 0.5 mile downstream of Franklin Street | None | +747 | Township of Schuylkill.
| Approximately 0.4 mile downstream of Franklin Street | None | +748
West Branch Schuylkill River | Approximately 1,582 feet upstream of East Sunbury Street | None | +702 | Township of Branch, Township of New Castle, Township of Norwegian.
| Approximately 169 feet upstream of the intersection of Greenbury Road and State Route 4002 | None | +848
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Mechanicsville
Maps are available for inspection at the Borough Hall, 1342 Pottsville Street, Mechanicsville, PA 17901.
Borough of Palo Alto
Maps are available for inspection at the Borough Hall, 142 East Bacon Street, Palo Alto, PA 17901.
Township of Branch
Maps are available for inspection at the Branch Township Municipal Building, 25 Carnish Street, Pottsville, PA 17901
Township of Butler
Maps are available for inspection at the Butler Township Municipal Building, 211 Broad Street, Ashland, PA 17921.
Township of East Brunswick
Maps are available for inspection at the East Brunswick Township Municipal Building, 55 West Catawissa Street, New Ringgold, PA 17960.
Township of Frailey
Maps are available for inspection at the Frailey Township Municipal Building, 23 Maryland Street, Donaldson, PA 17960.
Township of New Castle
Maps are available for inspection at the New Castle Township Municipal Building, 248-250 Broad Street, Saint Clair, PA 17970.
Township of Norwegian
Maps are available for inspection at the Norwegian Township Municipal Building, 506 Maple Avenue, Marlin, PA 17951.
Township of Schuylkill
Maps are available for inspection at the Schuylkill Township Municipal Building, 15 West Washington Street, Shenandoah, PA 17976.
City of Middleport
Maps are available for inspection at the City Hall, 81 Washington Street, Middleport, PA 17953.

(Catalog of Federal Domestic Assistance No. 97.022, “Flood Insurance.”)

Dated: September 3, 2012.
Sandra K. Knight,
Deputy Associate Administrator for Mitigation, Department of Homeland Security, Federal Emergency Management Agency.

[FR Doc. 2012-22302 Filed 9-10-12; 8:45 am]

BILLING CODE 9110-12-P